FEDERAL COMMUNICATIONS COMMISSION

47 CFR Part 73

[DA 05-2006; MB Docket No. 05-228, RM-11255]

Radio Broadcasting Services: Kiowa, KS

AGENCY: Federal Communications Commission.

ACTION: Proposed rule.

SUMMARY: The Audio Division request comments on a petition for rule making filed by Charles Crawford proposing the allotment of Channel 233A at Kiowa, Kansas, as the community's second local FM transmission service. Channel 233A can be allotted to Kiowa in compliance with the Commission's minimum distance separation requirements with a site restriction of 14.2 kilometers (8.9 miles) southeast to avoid short-spacings to the proposed allotment site for Channel 231C2 at Waynoka, Oklahoma, and to the licensed site for Station KCVW(FM), Channel 232C2, Kingman, Kansas. The coordinates for Channel 233A at Kiowa are 36-54-50 North Latitude and 98-23-27 West Longitude.

DATES: Comments must be filed on or before August 29, 2005, reply comments on or before September 13, 2005.

ADDRESSES: Federal Communications Commission, Washington, DC 20554. In addition to filing comments with the FCC, interested parties should serve the petitioner, or its counsel or consultant, as follows: Charles Crawford, 4553 Bordeaux Avenue, Dallas, Texas 75205 (Petitioner).

FOR FURTHER INFORMATION CONTACT: Sharon P. McDonald, Media Bureau, (202) 418-2180.

SUPPLEMENTARY INFORMATION: This is a synopsis of the Commission's Notice of Proposed Rule Making, MB Docket No. 05-228, adopted July 6, 2005, and released July 8, 2005. The full text of this Commission decision is available for inspection and copying during normal business hours in the FCC Reference Information Center (Room CY-A257), 445 12th Street, SW., Washington, DC. The complete text of this decision may also be purchased from the Commission's copy contractor, Best Copy and Printing, Inc., Portals II, 445 12th Street, SW., Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Kansas, is amended by adding Channel 233A at Kiowa.

Federal Communications Commission.
John A. Karousos,
Assistant Chief, Audio Division, Media Bureau.

[FR Doc. 05-14965 Filed 8-2-05; 8:45 am]

BILLING CODE 6712-01-P